DEPARTMENT OF ENERGY

Federal Energy Regulatory Commission

Combined Notice of Filings #2

Take notice that the Commission received the following electric rate filings:

Docket Numbers: ER12-419-000.

Applicants: Southern California Edison Company.

Description: Refile Letter Agreement for Casa Diablo 4 Project with Mammoth Pacific to be effective 8/14/2011.

Filed Date: 11/16/2011.

Accession Number: 20111116-5000.

Comment Date: 5 p.m. ET on 12/7/2011.

Docket Numbers: ER12-420-000.

Applicants: Consumers Energy Company.

Description: Cancellation of Facilities Agreement with MCV to be effective 10/1/2011.

Filed Date: 11/16/2011.

Accession Number: 20111116-5001.

Comment Date: 5 p.m. ET on 12/7/2011.

Docket Numbers: ER12-421-000.

Applicants: Heritage Garden Wind Farm I, LLC.

Description: Application for Market-Based Rate Authority to be effective 12/31/2011.

Filed Date: 11/16/2011.

Accession Number: 20111116-5055.

Comment Date: 5 p.m. ET on 12/7/2011.

Docket Numbers: ER12-422-000.

Applicants: New England Wind, LLC.

Description: 20111116 baseline to be effective 1/15/2012.

Filed Date: 11/16/2011.

Accession Number: 20111116-5065.

Comment Date: 5 p.m. ET on 12/7/2011.

Take notice that the Commission received the following electric reliability filings:

Docket Numbers: RR12-1-000.

Applicants: North American Electric Reliability Corp.

Description: Petition for Approval of a Revision to the Rules of Procedure of the North American Electric Reliability Corporation—Correction to Section 1.3 of Appendix 4D.

Filed Date: 11/14/2011.

Accession Number: 20111114-5475.

Comment Date: 5 p.m. ET on 12/5/2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2011.
Nathaniel J. Davis, Sr.,
Deputy Secretary.

[FR Doc. 2011-30209 Filed 11-22-11; 8:45 am]

BILLING CODE 6717-01-P